DEPARTMENT OF THE INTERIOR

Fish and Wildlife Service

North American Wetlands Conservation Council; Standard Grant Application Instructions

AGENCY: Fish and Wildlife Service, Interior.

ACTION: Notice of availability.

SUMMARY: Instructions for applying for standard grants under the U.S. North American Wetlands Conservation Act. This notice focuses on proposals for grants of $51,000 to $1,000,000 for the acquisition, restoration, and enhancement of wetlands. We will issue a separate notice for grant proposals requesting up to $50,000 for these purposes.

DATES: Proposals may be submitted at any time. To ensure adequate review time prior to upcoming North American Wetlands Conservation Council (Council) meetings, the Council Coordinator must receive proposals by the last Friday in March (3/31/00) and July (7/28/00). The electronic mail copy of the Proposal Summary is due 1 week earlier (3/24/00 and 7/21/00).

ADDRESSES: For detailed application instructions, sample proposal information, frequently asked questions, and summaries of recently approved proposals, visit the North American Wetlands Conservation Act (NAWCA) web site at http://northamerican.fws.gov/nawcahp.html. If you cannot access the web site, request computer disk or paper copies of the web site material from the Council Coordinator, U.S. Fish and Wildlife Service, 4401 North Fairfax Drive, Room 110, Arlington, VA 22203. Send proposals to the Council Coordinator at the above address. If you choose to submit the Proposal Summary by electronic mail (versus computer disk), send to bettina_sparrowe@fws.gov. Mail one original and two copies of the proposal to the Council Coordinator. Also, mail an electronic copy of the Proposal Summary on computer disk with the rest of the proposal or send an electronic copy by electronic mail to bettina_sparrowe@fws.gov. Send a copy of the proposal to your U.S. North American Waterfowl Management Plan Coordinator.

FOR FURTHER INFORMATION CONTACT: North American Wetlands Conservation Council Coordinator at (703) 358-1784, r9arw_nawwo@fws.gov or bettina_sparrowe@fws.gov or an NAWMP Joint Venture Coordinator (Coordinator) at the numbers given below. Coordinators can give you advice about developing a proposal and about proposal ranking and can provide compliance requirements for the National Environmental Policy Act, National Historic Preservation Act, and contaminant surveys. Even though all areas of all States are not in a Joint Venture, each Coordinator is available to provide information to NAWCA applicants. To determine which Coordinator to call, consult the following Joint Venture list, but note that some States are in more than one Joint Venture and may be listed more than once. To determine exactly which Joint Venture you are in, consult the NAWMP Joint Venture map at http://northamerican.fws.gov/nawmphp.html.

Atlantic Coast (AL, CT, DC, DE, FL, GA, MA, MD, ME, NC, NH, NJ, NY, PA, Puerto Rico, RI, SC, VA, Virgin Islands, VT, WV) 413-253-8269

Central Valley (CA) 916-414-6459

Gulf Coast (AL, LA, MS, TX) 505-248-6876

Intermountain West (AZ, CA, CO, ID, MT, NM, NV, OR, UT, WA, WY) 801-524-5110

Lower Mississippi Valley (AL, AR, KY, LA, MS, OK, TN, TX) 601-629-6600

Pacific Coast (AK, Am. Samoa, CA, Com. of N. Mariana Islands, Guam, HI, OR, WA) 360-696-7630

Playa Lakes (CO, KS, NM, OK, TX) 505-248-6877

Prairie Pothole (IA, MN, MT, ND, SD) 303-236-8145 extension 605

Rainwater Basin (KS, NE) 308-382-8112

Upper Mississippi River-Great Lakes (IA, IL, IN, KS, MI, MN, MO, NE, OH, WI) 612-713-5433

SUPPLEMENTARY INFORMATION: The Council has two U.S. conservation grants programs for acquisition, restoration, and enhancement of wetlands. Any individual or organization who has a long-term, partner-based project with matching funds can apply. The focus of this notice is standard grant proposals for requests from $51,000 to $1,000,000 per proposal. A separate notice will be issued sometime this year for small grant proposals for requests up to $50,000 per proposal.

This notice provides general instructions to develop and submit a NAWCA standard grant proposal. In order to complete a proposal correctly, consult the web site at http://northamerican.fws.gov/nawcahp.html for detailed instructions. If you cannot access the web site or want a printed version of the complete instructions or a personal computer disk that contains proposal forms, contact the Council Coordinator.

We prepare the instructions to assist partners in developing proposals that comply with NAWCA. The NAWCA established the Council, a Federal-State-private body that recommends projects to the Migratory Bird Conservation Commission (MBCC) for final approval and requires that proposals contain a minimum 1:1 ratio of non-Federal matching funds to grant funds. “Match” (as referred to throughout this document) can be cash, in-kind services, or land acquired/title donated for wetlands conservation purposes.

Paperwork Reduction Act

In accordance with the Paperwork Reduction Act (44 U.S.C. 3501), the Office of Management and Budget has assigned clearance number 1018-0100 to this information collection authorized by the North American Wetlands Conservation Act of 1989, as amended (16 U.S.C. 4401 et seq.). The information collection solicited is necessary to gain a benefit in the form of a grant, as determined by the Council and MBCC, is necessary to determine the eligibility and relative value of wetland projects, results in an approximate paperwork burden of 400 hours per application, and does not carry a premise of confidentiality. Your response is voluntary. An agency may not conduct or sponsor, and a person is not required to respond to, a collection of information unless it displays a currently valid OMB control number. The public is invited to submit comments on the accuracy of the estimated average burden hours for application preparation and to suggest ways in which the burden may be reduced. Comments may be submitted to: Information Collection Clearance Officer, Mail Stop 224 ARLSQ, U.S. Fish and Wildlife Service, Washington, D.C. 20240 and/or Desk Officer for Interior Department (1018-0100), Office of Information and Regulatory Affairs, Office of Management and Budget, New Executive Office Building, Washington, D.C. 20503.

Standard Grant Instructions

Detailed instructions are available at the NAWCA web site at http://northamerican.fws.gov/nawcahp.html.

Proposal Definition. A proposal is a 4-year plan of action supported by a NAWCA grant and matching partner funds to conserve wetlands and wetlands-dependent fish and wildlife through acquisition (including easements and land title donations), restoration, and/or enhancement (including creation). Match must be non-Federal and at least equal the grant request (referred to as a 1:1 match). Match is eligible up to 2 years prior to the due date year the proposal is submitted, and grant and match funds are eligible during the 2-year future Grant Agreement period.

Proposal Format. The 2-page Proposal Summary has a specific format. The rest of the proposal should be no more than 10 pages (not including the budget table, maps, and partner letters), and each page should be no larger than 8.5 by 11 inches. It is suggested, but not required, that maps be in color. Neither the original nor copies should be permanently bound. A proposal contains the following sections: Cover Page; Summary; Purpose; Scope of Work; Budget Table; Budget Narrative; Matching Contributions Plan (optional); Technical Assessment Questions; Funding Commitment Letters; Location Information; Standard Form 424 and Attachments.

Proposal Cover Page. The Cover Page contains the following sections: Proposal Title and State(s); Date Submitted; Future Proposals; Project Officer Information; Project Officer's Checklist; and Comments on the NAWCA Program. The Project Officer administers the Grant Agreement and is ultimately responsible for complying with Federal regulations. Correspondence is sent only to the Project Officer. Each proposal can have only one Project Officer, who must belong to the grant recipient's organization.

Proposal Summary. The Summary is a digest of information that is detailed in the rest of the proposal. The Summary is the only narrative material provided to the Council and MBCC, so it must be descriptive and succinct. The Summary contains the following sections: Proposal Title and States; Counties and Congressional Districts; Costs and Acres Summary; Purpose and Scope of Work Summary; and Wetland Values Summary.

Proposal Purpose. Use the Purpose to provide a description of how all the pieces of the proposal fit together to form a solid wetlands and migratory bird conservation proposal that should be funded under the NAWCA.

Proposal Scope of Work. The Scope of Work describes the purpose, need, kinds of work to be done, habitats, and associated wildlife (especially wetland associated migratory birds) and explains how the proposal meets objectives of the NAWMP Joint Ventures, Partners in Flight neotropical bird regional plans, the U.S. Shorebird Plan, the Colonial Waterbird Plan, and other migratory birds and wetlands conservation plans (including water quality management plans). If the proposal is part of a larger multiphase or landscape level project, explain how it fits into the larger effort.

Proposal Budget Table. The Budget Table displays activities and costs broken out by grant funding and partner funding according to cost elements (personnel and travel, appraisals, fee title acquired, fee title donated, easements and leases acquired and donated, materials and equipment, contracts, management agreements acquired and donated).

Proposal Budget Narrative. The Budget Narrative contains the justification for a grant request over $1,000,000 and detailed tract/project information. The tract/project design for this section is optional; however, if you use another format, be sure to include all required information and be sure that the reader can easily compare figures in the Budget Narrative and Budget Table. A sample Budget Narrative is available on the web site. In general, the following information is required for each tract or project within the proposal: (1) Costs and acres broken out by grant funding and individual partner funding for each activity and cost element; (2) Designation of grant and match tracts on map in proposal; (3) Acres of wetlands, wetlands-associated uplands, and other habitat types; (4) Migratory bird values and wetlands values; (5) Title holder after proposal is completed; (6) Summary of acquired property rights; (7) Matching Contributions Plan information; (8) Explanation of property donations; (9) Justification for match affiliated with wetlands mitigation banks; and (10) Milestones and completion dates.

Matching Contributions Plan. If you have contributions made in the early phases of a multiphase project and sufficient NAWCA proposals cannot be submitted before the match is more than 2 years old, you may request approval to use the match in the future by submitting a Matching Contributions Plan (Match Plan) with a proposal. A Match Plan must include match that is eligible at the time the proposal is submitted, be submitted with a proposal, may be approved only (in writing) if the proposal with which it is submitted is funded, should not be more than one page long, and should show use of the match over a period no greater than 5 years.

Technical Assessment Questions. The Council uses seven Technical Assessment Questions to evaluate proposals. The questions, subparts, and point values follow. Questions 1 and 2 include priority lists of species, so you need to refer to the web site or the Council Coordinator's office to complete a proposal. Answer the questions for the completed proposal and all tracts in the proposal (grant and match).

1. How does the proposal contribute to the conservation of waterfowl habitat (high-priority species, other priority species, other waterfowl)? 15 points

2. How does the proposal contribute to the conservation of other wetland-dependent or wetland-associated migratory birds (breeding and wintering priority species, in-transit migrants of concern, other wetland-dependent species)? 15 points

3. How does the proposal benefit the North American Waterfowl Management Plan and contribute to sites that have been recognized for wetland values (Joint Ventures, Waterfowl Habitat Areas of Concern, specially recognized areas)? 15 points

4. How does the proposal relate to the National status and trends of wetlands types (acres of decreasing, stable, and increasing wetlands types; acres of uplands)? 10 points

5. How does the proposal contribute to long-term conservation of wetlands and associated habitats (acres accruing benefits in perpetuity, for 26-99 years, for 10-25 years, and for less than 10 years)? 15 points

6. How does the proposal contribute to the conservation of habitat for Federally listed, proposed and candidate endangered species, State-listed species, and other wetland-dependent fish and wildlife (Federal species, State species, other wetland-dependent fish and wildlife)? 10 points

7. How does the proposal satisfy the partnership purpose of the North American Wetlands Conservation Act (ratio of the non-Federal match to the grant request, non-Federal partners who contribute 10 percent of the grant request, partner categories, important partnership aspects)? 20 points

Funding Commitment Letters. Send signed commitment letters from all match partners, including the grant recipient and private landowners (if providing funds or land as match), by the proposal due date. The proposal will be returned if the 1:1 match is not documented by partner letters. Letters must document the exact contribution level identified in the proposal and whether the contribution is in cash, goods, services, or land; the partner's responsibility in the proposal's implementation, including land donations; how the partner was involved in proposal planning; and that the partner is fully aware of how the contribution will be spent.

Location Information. State a central point location for the proposal in terms of latitude and longitude and provide 8.5 by 11-inch color (preferred) maps that give the following information: (1) Location of the tracts within State(s) and counties where grant and match funds will be spent and location of land matches; (2) Location of acquisition priority areas if specific tracts cannot be given; (3) Location of major water control structures and other restoration/enhancement features; (4) Location of natural features, such as rivers or lakes, to show how the proposal fits into the natural landscape; and if applicable, (5) Show where the proposal is in relation to a larger wetlands conservation project.

Standard Form 424 “Application for Federal Assistance” and Assurances Forms B “Non-construction” and D “Construction.” All applicants, except the U.S. Fish and Wildlife Service, must send an SF 424 and the B, D, or both Assurances forms with the proposal. All applicants must comply with the laws listed on the Assurances forms. The forms are available via the Internet at http://www.gsa.gov/forms/ or from the Council Coordinator.

Exhibits and Examples. Examples of various sections of a proposal, a list of eligible and ineligible activities and costs, general information about the NAWCA program, and a directory are available via the web site or from the Council Coordinator and should be consulted at some time in the proposal development process.

Blank Proposal Forms. The following forms are available from the web site for you to download and use to develop a proposal: A blank proposal form developed using Microsoft Word, a blank proposal form using Word Perfect, and a blank Budget Table using Microsoft Excel.

Dated: March 6, 2000.
Jamie Rappaport Clark,
Director, U.S. Fish and Wildlife Service.

[FR Doc. 00-6024 Filed 3-10-00; 8:45 am]

BILLING CODE 4310-55-P